DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: November 2, 2005, 8:30 a.m.-5 p.m., November 3, 2005, 8:30 a.m.-5 p.m., November 4, 2005, 8:30 a.m.-3 p.m.

Place: DoubleTree Hotel and Executive Center, 1750 Rockville Pike, Rockville, Maryland 20852.

Status: The meeting will be open to the public.

Agenda: Agency and Bureau administrative updates will be provided. The purpose of the meeting will be to address issues related to the status of the nursing workforce. Two leading educators/researchers will present on their findings related to nursing workforce data, trends and issues. In addition, representatives from four nursing organizations representing nursing education, practice and licensing will present their data, trends, and workforce issues. During this meeting and the subsequent April 2006 meeting, Council workgroups will deliberate on content presented and formulate recommendations to the Secretary of Health and Human Services and the Congress on nursing workforce issues based on the latest data and trends. This meeting will form the basis for NACNEP's mandated Sixth Annual Report.

For Further Information Contact: Anyone interested in obtaining a roster of members, minutes of the meeting, or other relevant information should write or contact Ms. Donna English, M.P.H., R.N., Executive Secretary, National Advisory Council on Nurse Education and Practice, Parklawn Building, Room 9-35, 5600 Fishers Lane, Rockville, Maryland 20857, telephone (301) 443-5688.

Dated: October 19, 2005.
Tina M. Cheatham,
Director, Division of Policy Review and Coordination.

[FR Doc. 05-21243 Filed 10-24-05; 8:45 am]

BILLING CODE 4165-15-P